Title 3—

The President

Proclamation 9274 of May 6, 2015

National Day of Prayer, 2015

By the President of the United States of America

A Proclamation

When women and men of all backgrounds and beliefs are free to practice their faiths without fear or coercion, it bolsters our religious communities and helps to lift up diverse and vibrant societies throughout our world. In America, our Nation is stronger because we welcome and respect people of all faiths, and because we protect the fundamental right of all peoples to practice their faith how they choose, to change their faith, or to practice no faith at all, and to do so free from persecution and discrimination. Today, as we pause in solemn reflection, we celebrate the religious liberty we cherish here at home, and we recommit to standing up for religious freedom around the world.

For many of us, prayer is an important expression of faith—an essential act of worship and a daily discipline that allows reflection, provides guidance, and offers solace. Through prayer we find the strength to do God's work: to feed the hungry, care for the poor, comfort the afflicted, and make peace where there is strife. In times of uncertainty or tragedy, Americans offer humble supplications for comfort for those who mourn, for healing for those who are sick, and for protection for those who are in harm's way. When we pray, we are reminded that we are not alone—our hope is a common hope, our pain is shared, and we are all children of God.

Around the globe, too few know the protections we enjoy in America. Millions of individuals worldwide are subjected to discrimination, abuse, and sanctioned violence simply for exercising their religion or choosing not to claim a faith. Communities are threatened with genocide and driven from their homelands because of who they are or how they pray. The United States will continue to stand against these reprehensible attacks, work to end them, and protect religious freedom throughout the world. And we remember those who are prisoners of conscience—who are held unjustly because of their faiths or beliefs—and we will take every action within our power to secure their release.

In the face of tremendous challenges, prayer is a powerful force for peace, justice, and a brighter, more hopeful tomorrow. Today, as we join together in fellowship, we seek to see our own reflection in the struggle of others, to be our brothers' and sisters' keepers, and to keep faith—in one another, in the promise of our Nation, and in the Almighty.

The Congress, by Public Law 100-307, as amended, has called on the President to issue each year a proclamation designating the first Thursday in May as a “National Day of Prayer.”

NOW, THEREFORE, I, BARACK OBAMA, President of the United States of America, by virtue of the authority vested in me by the Constitution and the laws of the United States, do hereby proclaim May 7, 2015, as a National Day of Prayer. I invite the citizens of our Nation to give thanks, in accordance with their own faiths and consciences, for our many freedoms and blessings, and I join all people of faith in asking for God's continued guidance, mercy, and protection as we seek a more just world.

IN WITNESS WHEREOF, I have hereunto set my hand this sixth day of May, in the year of our Lord two thousand fifteen, and of the Independence of the United States of America the two hundred and thirty-ninth.

[FR Doc. 2015-11402

Filed 5-8-15; 8:45 am]

Billing code 3295-F5